DEPARTMENT OF COMMERCE

Patent and Trademark Office

Submission for OMB Review; Comment Request; Initial Patent Applications

The United States Patent and Trademark Office (USPTO) will submit to the Office of Management and Budget (OMB) for clearance the following proposal for collection of information under the provisions of the Paperwork Reduction Act (44 U.S.C. Chapter 35).

Agency: United States Patent and Trademark Office, Department of Commerce.

Title: Initial Patent Applications.

OMB Control Number: 0651-0032.

Form Number(s): PTO/SB/01, PTO/SB/01A, PTO/SB/02, PTO/SB/02A, PTO/SB/02B, PTO/SB/02CN, PTO/SB/02DE, PTO/SB/02ES, PTO/SB/02FR, PTO/SB/02IT, PTO/SB/02JP, PTO/SB/02KR, PTO/SB/02LR, PTO/SB/02NL, PTO/SB/02RU, PTO/SB/02SE, PTO/SB/03, PTO/SB/03A, PTO/SB/04, PTO/SB/06, PTO/SB/07, PTO/SB/14 EFS-Web, PTO/SB/16, PTO/SB/16 EFS-Web, PTO/SB/17, PTO/SB/29, PTO/SB/29A, PTO/SB/101, PTO/SB/102, PTO/SB/103, PTO/SB/104, PTO/SB/105, PTO/SB/106, PTO/SB/107, PTO/SB/108, PTO/SB/109, PTO/SB/110, PTO/AIA/01, PTO/AIA/02, PTO/AIA/03, PTO/AIA/04, PTO/AIA/08, PTO/AIA/09, PTO/AIA/10, PTO/AIA/11, PTO/AIA/14, PTO/AIA/15, PTO/AIA/18, PTO/AIA/19, PTO/AIA/01CN, PTO/AIA/01DE, PTO/AIA/01ES, PTO/AIA/01FR, PTO/AIA/01IT, PTO/AIA/01JP, PTO/AIA/01KR, PTO/AIA/01NL, PTO/AIA/01RU, PTO/AIA/01SE, PTO/AIA/02CN, PTO/AIA/02DE, PTO/AIA/02ES, PTO/AIA/02FR, PTO/AIA/02IT, PTO/AIA/02JP, PTO/AIA/02KR, PTO/AIA/02NL, PTO/AIA/02RU, and PTO/AIA/02SE.

Type of Request: Regular.

Number of Respondents: 636,003.

Average Hours per Respondent: The USPTO estimate that it takes the public approximately between 30 minutes (0.50 hours) to 40 hours to complete this information, depending on the complexity of the request. This includes the time to gather the necessary information, prepare the application, petition, or paper submissions, and submit the completed request to the USPTO.

Burden Hours: 15,757,081.50 hours.

Cost Burden: $1,127,541,338.53.

Needs and Uses: This collection of information is required by, inter alia, 35 U.S.C. 131 and 37 CFR 1.16 through 1.84 and 1.495(b). Each patent application must provide sufficient information to allow the USPTO to examine properly the application, petition, or paper to determine whether the application, petition, or paper meets the criteria set forth in the patent statutes and regulations. The various fee and application transmittal forms, the declarations, the cover sheets, the petitions, and the papers filed under 37 CFR 1.41(c), 1.41(a)(2) (pre-AIA), 1.48(d), 1.53(c)(2), and 1.53(c)(2) (pre-PLT (AIA)) permit applicants to supply all of the information necessary to process the application and enables the USPTO to ensure that all of the information has been provided in order to process the application.

Frequency: On occasion.

Affected Public: Individuals or households; businesses or other for-profits; non-profit institutions; and the Federal Government.

Respondent's Obligation: Required to Obtain or Retain Benefits.

OMB Desk Officer: Nicholas A. Fraiser, email: Nicholas_A._Fraiser@omb.eop.gov.

Once submitted, the request will be publicly available in electronic format through reginfo.gov. Follow the instructions to view Department of Commerce collections currently under review by OMB.

Further information can be obtained by:

• Email: InformationCollection@upsto.gov. Include “0651-0032 copy request” in the subject line of the message.

• Mail: Marcie Lovett, Records and Information Governance Division Director, Office of the Chief Technology Officer, United States Patent and Trademark Office, P.O. Box 1450, Alexandria, VA 22313-1450.

Written comments and recommendations for the proposed information collection should be sent on or before May 26, 2017 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-08419 Filed 4-25-17; 8:45 am]

BILLING CODE 3510-16-P